DEPARTMENT OF COMMERCE

National Oceanic and Atmospheric Administration

[RTID 0648-XA031]

Western Pacific Fishery Management Council; Public Meeting

AGENCY: National Marine Fisheries Service (NMFS), National Oceanic and Atmospheric Administration (NOAA), Commerce.

ACTION: Notice of a public meeting and hearing.

SUMMARY: The Western Pacific Fishery Management Council (Council) will hold a meeting of its Hawaii Archipelago Fishery Ecosystem Plan (FEP) Advisory Panel (AP), American Samoa FEP AP, Mariana Archipelago FEP-Guam AP, and Mariana Archipelago FEP-Commonwealth of the Northern Mariana Islands (CNMI) AP to discuss and make recommendations on fishery management issues in the Western Pacific Region.

DATES: The Hawaii Archipelago FEP AP will meet on Friday, February 21, 2020 between 1 p.m. and 4 p.m.; the American Samoa FEP AP will meet on Wednesday, February 26, 2020, from 5:30 p.m. to 7:30 p.m.; the Mariana Archipelago FEP-Guam AP will meet on Thursday, February 27, 2020, between 6:30 p.m. and 8:30 p.m.; and the Mariana Archipelago FEP-CNMI AP will meet on Thursday, February 27, 2020, between 6 p.m. and 8 p.m. All times listed are local island times. For specific times and agendas, see SUPPLEMENTARY INFORMATION.

ADDRESSES: The Hawaii Archipelago FEP AP will meet at the Council Office at 1164 Bishop St, Suite 1400, Honolulu, HI 96813; The American Samoa FEP AP will meet at the NASAC Building in Pava'ia'i Village, Tutuila, American Samoa, 96799; the Mariana Archipelago FEP-Guam AP will meet at the Guam Division of Aquatics and Wildlife Resources Conference Room, 163 Dairy Road, Mangilao, Guam, 96913; and the Mariana Archipelago FEP-CNMI AP will meet at the Micronesian Environmental Services Conference Room, Garapan, Saipan, CNMI 96950

FOR FURTHER INFORMATION CONTACT: Kitty M. Simonds, Executive Director, Western Pacific Fishery Management Council; telephone: (808) 522-8220.

SUPPLEMENTARY INFORMATION: Public comment periods will be provided in the agenda. The order in which agenda items are addressed may change. The meetings will run as late as necessary to complete scheduled business.

Schedule and Agenda for the Hawaii Archipelago FEP AP Meeting

Friday, February 21, 2020, 1 p.m.-4 p.m.

1. Welcome and Introductions

2. Review of the last AP meeting and recommendations

3. Council Issues

A. Hawaii Small-boat Scoping Report

B. Designating New Precious Coral Beds

C. Hawaii/Pacific Remote Island Area Marine Conservation Plan (MCP)

D. Regional Electronic Technologies

E. Hawaii Longline Electronic Reporting Update

4. Hawaii Reports

5. Report on Hawaii Archipelago FEP AP Plan Activities

6. Island Fishery Issues and Activities

7. Public Comment

8. Discussion and Recommendations

9. Other Business

Schedule and Agenda for the American Samoa FEP AP Meeting

Wednesday, February 26, 2020, 5:30 p.m.-7:30 p.m.

1. Welcome and Introductions

2. Review of the last AP meeting and recommendations

3. Council Issues

A. Territorial Bottomfish Annual Catch Limit (ACL)

B. Bottomfish Rebuilding Plan

C. Regional Electronic Technologies

D. 2020 Territorial Bigeye Tuna Specifications

4. American Samoa Reports

5. Report on American Samoa Archipelago FEP AP Plan Activities

6. Island Fishery Issues and Activities

7. Public Comment

8. Discussion and Recommendations

9. Other Business

Schedule and Agenda for the Mariana Archipelago FEP-Guam AP Meeting

Thursday, February 27, 2020, 6:30 p.m.-8:30 p.m.

1. Welcome and Introductions

2. Review of the last AP meeting and recommendations

3. Council Issues

A. Territorial Bottomfish ACL

B. Bottomfish Rebuilding Plan

C. Guam MCP

D. Regional Electronic Technologies

E. 2020 Territorial Bigeye Tuna Specifications

4. Guam Reports

5. Report on Mariana Archipelago FEP Advisory Panel Plan Activities

6. Island Fishery Issues and Activities

7. Public Comment

8. Discussion and Recommendations

9. Other Business

Schedule and Agenda for the Mariana Archipelago FEP-CNMI AP Meeting

Thursday, February 27, 2020, 6 p.m.-8 p.m.

1. Welcome and Introductions

2. Review of the last AP meeting and recommendations

3. Council Issues

A. Territorial Bottomfish ACL

B. CNMI MCP

C. Regional Electronic Technologies

D. 2020 Territorial Bigeye Tuna Specifications

4. CNMI Reports

5. Report on Mariana Archipelago FEP AP Plan Activities

6. Island Fishery Issues and Activities

7. Public Comment

8. Discussion and Recommendations

9. Other Business

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: February 4, 2020.
Tracey L. Thompson,
Acting Deputy Director, Office of Sustainable Fisheries, National Marine Fisheries Service.

[FR Doc. 2020-02433 Filed 2-6-20; 8:45 am]

BILLING CODE 3510-22-P